SMALL BUSINESS ADMINISTRATION

Revocation of License of Small Business Investment Company

Pursuant to the authority granted to the United States Small Business Administration by the Windup Order of the United States District Court for the Southern District of Florida, entered July 1, 2015, the United States Small Business Administration hereby revokes the license of Crossbow Venture Partners, L.P., a Delaware Limited Partnership, to function as a small business investment company under the Small Business Investment Company License No. 04740281 issued to Crossbow Venture Partners, L.P., on June 29, 2000, and said license is hereby declared null and void as of July 1, 2015.

United States Small Business Administration.
Dated: September 21, 2015.
Javier E. Saade,
Associate Administrator for Investment.

[FR Doc. 2015-24368 Filed 9-24-15; 8:45 am]

BILLING CODE P